ENVIRONMENTAL PROTECTION AGENCY

[FRL-8229-4]

Clean Water Act Section 303(d): Final Agency Action on Thirty Oklahoma Total Maximum Daily Loads (TMDLs)

AGENCY: Environmental Protection Agency (EPA).

ACTION: Notice of availability.

SUMMARY: This notice announces final agency action on thirty TMDLs, and their administrative record files prepared by EPA Region 6 for certain waters listed in the Upper Canadian River and Turkey Creek Watersheds in Oklahoma, under section 303(d) of the Clean Water Act (CWA). Documents from the administrative record file for the thirty TMDLs, including TMDL calculations and responses to comments, may be viewed at http://www.epa.gov/region6/6wq/npdes/tmdl/index.htm. The administrative record file may be examined by calling or writing Ms. Diane Smith at the following address. Please contact Ms. Smith to schedule an inspection.

FOR FURTHER INFORMATION CONTACT: Diane Smith, Environmental Protection Specialist, Water Quality Protection Division, U.S. EPA Region 6, 1445 Ross Avenue, Dallas, TX 75202-2733, (214) 665-2145.

SUPPLEMENTARY INFORMATION: On March 10, 2006, EPA Region 6 made a commitment to the EPA Headquarters Office of Water under EPA's National Water Program Fiscal Year 2006 Guidance for the program activity measure (PAM) number WQ-12, to establish or approve a total of 188 TMDLs in fiscal year (FY) 2006. Under the PAM number WQ-12, EPA expected the Oklahoma Department of Environmental Quality (ODEQ) to develop a total of 87 TMDLs in fiscal year (FY) 2006 and submit them for EPA's approval. By the end of July 2006, ODEQ had submitted two final TMDLs for EPA's approval and 30 draft TMDLs for EPA's review and comments. EPA has approved the two final TMDLs submitted by ODEQ. However, a recent discussion between EPA Region 6 and ODEQ senior managers determined that although substantial progress has been made on the other TMDLs, the remainder of the TMDLs needed to meet the commitment could not be completed by the target date. Accordingly, EPA Region 6 has decided to conduct the public participation process for these thirty TMDLs and establish the final TMDLs.

EPA Takes Final Agency Action on Thirty TMDLs

By this notice EPA is taking final agency action on the following thirty TMDLs for certain waters located within Oklahoma's Upper Canadian River and Turkey Creek Watersheds:

Segment | Waterbody name | Pollutant
Upper Canadian River Watershed
OK520620010010_00 | Canadian River | Fecal coliform.
OK520620010120_00 | Bear Creek | E. coli, Enterococci, and Fecal coliform.
OK520620020010_00 | Canadian River | Enterococci, and Fecal coliform.
OK520620020090_00 | Trail Creek | E. coli, Enterococci, and Fecal coliform.
OK520620030020_00 | Lone Creek | E. coli and Enterococci.
OK520620030050_00 | Red Trail Creek | E. coli, Enterococci, and Fecal coliform.
OK520620030110_00 | Red Creek | E. coli, Enterococci, and Fecal coliform.
OK520620040050_00 | Hackberry Creek | E. coli and Enterococci.
OK520620050160_00 | Commission Creek | E. coli and Enterococci.
OK520620060010_00 | Deer Creek | E. coli and Enterococci.
Turkey Creek Watershed
OK620910060010_00 | Turkey Creek | Fecal Coliform and turbidity.
OK620910060020_00 | Little Turkey Creek | Fecal Coliform and turbidity.
OK620910060030_00 | Buffalo Creek | Fecal Coliform and turbidity.
OK620910060110_00 | Clear Creek | Fecal Coliform.

EPA requested the public to provide EPA with any significant data or information that may impact the thirty TMDLs in Federal Register Notice: Volume71, Number 155, pages 46227-46228 (August 11, 2006). The comments received and EPA's response to comments may be found at http://www.epa.gov/region6/6wq/npdes/tmdl/index.htm.

Dated: September 29, 2006.
Miguel I. Flores,
Director, Water Quality Protection Division, Region 6

[FR Doc. E6-16651 Filed 10-6-06; 8:45 am]

BILLING CODE 6560-50-P